INTERNATIONAL TRADE COMMISSION

[Investigation No. 337-TA-949]

Certain Audio Processing Hardware and Software Products Containing Same; Commission Determination Not To Review an Initial Determination Granting Intervenor Status to Conexant Systems Inc. and Waves Audio, Ltd.

AGENCY: U.S. International Trade Commission.

ACTION: Notice.

SUMMARY: Notice is hereby given that the U.S. International Trade Commission has determined not to review an initial determination (“ID”) (Order No. 15) granting intervenor status to Conexant Systems Inc. and Waves Audio Ltd.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 18, 2015, based on a complaint filed by Andrea Electronics Corp. of Bohemia, New York (“Andrea”). 80 FR 14159-60 (March 18, 2015). The complaint alleges violations of section 337 of the Tariff Act of 1930, as amended (19 U.S.C. 1337), in the importation, sale for importation, and sale after importation of audio processing articles that infringe five U.S. patents. The notice of investigation named numerous respondents, some of whom have been previously terminated. The notice also named the Office of Unfair Import Investigations as a party.

On July 2, 2015, Conexant Systems Inc. (“Conexant”) moved to obtain intervenor status in the investigation. Conexant argued that, because Andrea alleges that Conexant's audio technology contained in the respondents' products infringes the asserted patents, Conexant has an interest in the subject matter of the investigation. Conexant further argues that the respondents do not adequately represent Conexant's interests because Andrea has accused the audio technology made by multiple companies, so the respondents may not necessarily have an interest in defending Conexant's specific audio technology. On July 14, 2015, Andrea filed a response in opposition to the motion and the Commission Investigative Attorney (“IA”) filed a response in support of the motion.

On July 14, 2015, Waves Audio, Ltd. (“Waves Audio”) moved to obtain intervenor status in the investigation for substantially the same reasons as Conexant. Additionally, Waves Audio argued that it has indemnity obligations to the extent that its products are a part of the investigation. On July 20, 2015, Andrea filed a response in opposition to the motion and the IA filed a response in support of the motion.

On August 7, 2015, the ALJ issued the subject ID, granting intervenor status to Conexant and Waves Audio. The ALJ found that the motions complied with 19 CFR 210.19 and Federal Rule of Civil Procedure 24 because the motions were timely and showed that Conexant and Waves Audio had an interest in the subject matter of the investigation that was not adequately represented by the existing parties. No petitions for review of the subject ID were filed.

The Commission has determined not to review the subject ID.

The authority for the Commission's determination is contained in section 337 of the Tariff Act of 1930, as amended (19 U.S.C. 1337), and in Part 210 of the Commission's Rules of Practice and Procedure (19 CFR part 210).

By order of the Commission.
Issued: September 2, 2015.
Lisa R. Barton,
Secretary to the Commission.

[FR Doc. 2015-22575 Filed 9-4-15; 8:45 am]

BILLING CODE 7020-02-P